DEPARTMENT OF TRANSPORTATION

Federal Motor Carrier Safety Administration

[Docket No. FMCSA-2025-0128]

Application for Employment: CloudTrucks, LLC., Application for Exemption

AGENCY: Federal Motor Carrier Safety Administration (FMCSA), Department of Transportation (DOT).

ACTION: Notice of final disposition; denial of application for exemption.

SUMMARY: FMCSA announces its decision to deny CloudTrucks, LLC's (CloudTrucks) request for an exemption from the requirement to collect the following information from prospective drivers: list of employers' names, addresses, and dates of employment, reason for leaving, whether the driver was subject to the Federal Motor Carrier Safety Regulations (FMCSRs) while employed by the previous employer, and if the driver was subject to the alcohol and controlled substances testing requirements. FMCSA has analyzed the exemption application and the public comments and has determined that the exemption is not likely to achieve a level of safety that is equivalent to, or greater than, the level that would be achieved in the absence of the exemption.

DATES: The decision is effective February 6, 2026.

FOR FURTHER INFORMATION CONTACT: Ms. Bernadette Walker, FMCSA Driver and Carrier Operations Division; Office of Carrier, Driver and Vehicle Safety Standards; 202-507-0363; Bernadette.walker@dot.gov. If you have questions on viewing or submitting material to the docket, contact Docket Services, telephone (202) 366-9826.

SUPPLEMENTARY INFORMATION:

I. Public Participation

Viewing Comments and Documents

To view any documents mentioned as being available in the docket, go to https://www.regulations.gov/docket/FMCSA-2025-0128 document and choose the document to review. To view comments, click this notice, then click “Browse Comments.” If you do not have access to the internet, you may view the docket online by visiting Dockets Operations on the ground floor of the DOT West Building, 1200 New Jersey Avenue SE, Washington, DC 20590-0001, between 9 a.m. and 5 p.m., Monday through Friday, except Federal holidays. To be sure someone is there to help you, please call (202) 366-9317 or (202) 366-9826 before visiting Dockets Operations.

II. Legal Basis

FMCSA has authority under 49 U.S.C. 31136(e) and 31315(b) to grant exemptions from the FMCSRs. FMCSA must publish a notice of each exemption request in the Federal Register (49 CFR 381.315(a)). The Agency must provide the public an opportunity to inspect the information relevant to the application, including the applicant's safety analysis. The Agency must provide an opportunity for public comment on the request.

The Agency reviews applications, safety analyses, and public comments submitted and determines whether granting the exemption would likely achieve a level of safety equivalent to, or greater than, the level that would be achieved absent such exemption, pursuant to the standard set forth in 49 U.S.C. 31315(b)(1). The Agency must publish its decision in the Federal Register (49 CFR 381.315(b)). If granted, the notice will identify the regulatory provision from which the applicant will be exempt, the effective period, and all terms and conditions of the exemption (49 CFR 381.315(c)(1)). If the exemption is denied, the notice will explain the reason for the denial (49 CFR 381.315(c)(2)). The exemption may be renewed (49 CFR 381.300(b)).

III. Background

Current Regulatory Requirements

Under 49 CFR 391.21(b)(10)(i)-(iv), prospective driver employees (meaning applicants for employment) are required to provide prospective motor carrier employers with the following information: name and address of the driver's employers during the 3 years preceding the date of the application, dates of employment, reason for leaving, and for any driver employed after October 29, 2004, confirmation whether the driver candidate held a position that was subject to the FMCRSs or designated as safety sensitive by any DOT mode subject to controlled substance and alcohol testing.

In addition, Congress required in 49 U.S.C. 31303(c) that an applicant applying for a position to operate a CMV that requires a commercial driver's license must provide the driver's employment history for the preceding 10 years, rather than 3 years (49 CFR 391.21(b)(11)). In contrast, the motor carrier is required to investigate the driver's safety performance history for only the preceding 3 years (49 CFR 391.23(a)(2)).

Applicant's Request

CloudTrucks's application for exemption was described in detail in a Federal Register notice published on July 1, 2025 (90 FR 28856) and will not be repeated as the facts have not changed.

IV. Public Comments

The Agency received five unique comments: ¹ one in support, three in opposition, and one taking no position either for or against the exemption. CloudTrucks also submitted a response to an opposing comment. James Wiseman supported the exemption request and stated, “I believe this request reflects a thoughtful and responsible effort to modernize the application and onboarding process for commercial drivers through the use of advanced technology.”

¹ The docket shows that six comments were filed during the comment period, however, two of the anonymous comments are duplicates with matching attachments. The duplicate entries can be found at docket comment ID number FMCSA-2025-0128-0005 and FMCSA-2025-0128-0006.

Among the commenters in opposition, one anonymous commenter said, “I would think it would be a better option that all carriers need to report to one national data base not another pay for service that does not link all CDL verification services to one.” Steve Sutherlandgray stated that FMCSA should deny the exemption for multiple reasons, including concerns about mandatory, non-negotiable terms in the lease agreement between CloudTrucks and its owner-operators. He said, “The exemption, if granted, would reward a business structure that obfuscates regulatory liability and imposes hidden obligations on drivers.” Another anonymous commenter expressed concern with alleged tax, labor, consumer protection, and other violations. The anonymous commenter also stated that the Clearinghouse, PSP, and CDLIS do not contain employment history information.

AWM Associates, LLC (AWM) and an anonymous commenter cited concerns with CloudTrucks's safety data, including driver fitness violations. AWM stated that the databases CloudTrucks intends to use are not an adequate substitute for the requirements in the FMCSRs. In response to AWM's comment, CloudTrucks stated that its vehicle and driver out-of-service rates are comparable to those of other carriers of similar size. CloudTrucks wrote, “We respectfully request that FMCSA evaluate our exemption on its own merits, including our compliance architecture, safety protocols, and ability to meet the goals of [49 CFR] 391.23 through alternative, verifiable means.”

V. FMCSA Decision

FMCSA has evaluated CloudTrucks's application and the public comments, as well as CloudTrucks's safety performance record, and denies the exemption request. As noted by commenters, CloudTrucks's on-road safety data, including driver fitness violations, indicate ongoing safety management concerns. CloudTrucks met the criteria for FMCSA's “High Risk” definition (81 FR 11875) as recently as March 2025. CloudTrucks was cited for 27 driver fitness violations in the past two years during inspections, 20 of which were out-of-service violations. Given CloudTrucks's safety performance record and recent designation as “high risk,” FMCSA does not find that the requested exemption will likely achieve a level of safety equivalent to, or greater than, the level achieved by complying with the regulations.

For the above reasons, the CloudTrucks, LLC exemption application is denied.

Derek Barrs,
Administrator.

[FR Doc. 2026-02368 Filed 2-5-26; 8:45 am]

BILLING CODE 4910-EX-P